DEPARTMENT OF LABOR

Mine Safety and Health Administration

[OMB Control No. 1219-0140]

Proposed Extension of Information Collection: High-Voltage Continuous Mining Machine Standards for Underground Coal Mines

AGENCY: Mine Safety and Health Administration, Labor.

ACTION: Request for public comments.

SUMMARY: The Department of Labor (DOL), as part of its continuing effort to reduce paperwork and respondent burden, conducts a pre-clearance consultation program for all information collections to provide the public and Federal agencies with an opportunity to comment on proposed collections of information, in accordance with the Paperwork Reduction Act of 1995. This program helps to ensure that requested data can be provided in the desired format, reporting burden (time and financial resources) is minimized, collection instruments are clearly understood, and the impact of collection requirements on respondents can be properly assessed. The Mine Safety and Health Administration (MSHA) is soliciting comments on the information collection titled “High-Voltage Continuous Mining Machine Standards for Underground Coal Mines.”

DATES: All comments must be received on or before September 2, 2025.

ADDRESSES: Comments concerning the information collection requirements of this notice may be sent by any of the methods listed below. Please note that late comments received after the deadline will not be considered.

• Federal E-Rulemaking Portal: https://www.regulations.gov. Follow the on-line instructions for submitting comments for docket number MSHA-2025-0038.

• Mail/Hand Delivery: DOL-MSHA, Office of Standards, Regulations, and Variances, 200 Constitution Avenue NW, Room C3522, Washington, DC 20210. Before visiting MSHA in person, call 202-693-9455 to make an appointment.

• MSHA will post all comments as well as any attachments, except for information submitted and marked as confidential, in the docket at https://www.regulations.gov.

FOR FURTHER INFORMATION CONTACT: Jessica Senk, Acting Director, Office of Standards, Regulations, and Variances, MSHA, at MSHA.information.collections@dol.gov (email); (202) 693-9440 (voice); or (202) 693-9441 (facsimile). These are not toll-free numbers.

SUPPLEMENTARY INFORMATION:

I. Background

A. Legal Authority

Section 103(h) of the Federal Mine Safety and Health Act of 1977 (Mine Act), as amended, 30 U.S.C. 813(h), authorizes MSHA to collect information necessary to carry out its duty in protecting the safety and health of miners. Further, section 101(a) of the Mine Act, 30 U.S.C. 811(a), authorizes the Secretary of Labor (Secretary) to develop, promulgate, and revise, as may be appropriate, improved mandatory health or safety standards for the protection of life and prevention of injuries in coal, metal and nonmetal mines.

The Paperwork Reduction Act of 1995 (PRA) governs paperwork burdens imposed on the public by Federal agencies for using identical questions to collect information from 10 or more persons. The PRA defines paperwork burden in 44 U.S.C. 3502(2) as time, effort, or financial resources expended to generate, maintain, or provide information to or for a Federal agency. Under 44 U.S.C. 3507, the PRA also establishes policies and procedures of information collection for controlling paperwork burdens imposed by Federal agencies on the public, including evaluating public comments.

B. Information Collection

To fulfill its statutory mandate to promote miners' health and safety, MSHA requires information under the information collection request (ICR) titled “High-Voltage Continuous Mining Machine Standards for Underground Coal Mines.” The information collection is intended to ensure that underground coal mine operators conduct necessary examinations and tests relating to hazardous conditions encountered by miners working with and around high-voltage continuous mining machines (HVCMMs). The records of these examinations and tests are critical to decisions that impact the health and safety of miners working with and around HVCMMs.

Requirements in 30 CFR part 75 provide for the safe use of HVCMMs for those underground coal mine operators that choose to use an HVCMM. These requirements for examination, maintenance, and recordkeeping on HVCMMs reduce the risk of fire, electrical shock, ignition, and other operational hazards.

Burden costs associated with the ICR include:

(i) Examinations and corrective actions prior to tramming HVCMM in and out of the mine and from section to section;

(ii) Locking out and tagging of high-voltage trailing cables; and

(iii) Examinations, corrective actions, and recordkeeping of HVCMMs.

Authorization and the associated rule text are described below.

1. Examinations and Corrective Actions Prior to Tramming HVCMMs In and Out of the Mine and From Section to Section

Under 30 CFR 75.829(b)(1), prior to tramming the HVCMM, a qualified person must activate the ground-fault and ground-wire monitor test circuits of the power sources (medium-voltage power source and step-up transformer) to assure that the corresponding circuit-interrupting device opens the circuit. Corrective actions and recordkeeping resulting from these tests must be in accordance with paragraphs 75.832(f) and (g).

Under 30 CFR 75.829(b)(2), prior to tramming the HVCMM and where applicable, a person designated by the mine operator must activate the test circuit for the grounded-phase detection circuit on the HVCMM to assure that the detection circuit is functioning properly. Corrective actions resulting from these tests must be in accordance with paragraph 75.832(f).

Under 30 CFR 75.832(f), when examinations or tests of equipment reveal a risk of fire, electrical shock, ignition, or operational hazard, the equipment must be immediately removed from service or repaired.

Under 30 CFR 75.832(g)(1), at the completion of examinations required for HVCMMs under 30 CFR 75.832(a), ground-fault test circuit verification under 30 CFR 75.832(b), and ground-wire monitor examinations and tests under 30 CFR 75.832(c), the person conducting the examinations and tests must:

(i) Certify by signature and date that the examinations and tests have been conducted.

(ii) Make a record of any unsafe condition found.

Under 30 CFR 75.832(g)(2), any corrective actions must be recorded by the person taking the corrective action.

Under 30 CFR 75.832(g)(3), these records must be countersigned by the mine foreman or equivalent mine official by the end of the mine foreman's or equivalent mine official's next regularly scheduled working shift.

Under 30 CFR 75.832(g)(4), records must be maintained in a secure book that is not susceptible to alteration or electronically in a computer system that is secure and not susceptible to alteration.

Under 30 CFR 75.832(g)(5), certifications and records must be kept for at least 1 year and must be made available for inspection by authorized representatives of the Secretary and representatives of miners.

2. Locking Out and Tagging of High-Voltage Trailing Cables

Under 30 CFR 75.831(a), prior to performing electrical work, other than troubleshooting and testing, on the high-voltage trailing cable or HVCMM, a qualified person must de-energize the power center and follow procedures specified:

(i) If a trailing cable disconnecting switch is provided:

(a) Open and ground the power conductors, lock out and tag the disconnecting switch; and

(b) Lock out and tag the plug to the power receptacle.

(ii) If a trailing cable disconnecting switch is not provided and a cable coupler is used as a disconnecting device:

(a) Remove the plug from the power receptacle and connect it to the grounding receptacle;

(b) Lock out and tag the plug to the grounding receptacle; and

(c) Place a dust cover over the power receptacle.

Under 30 CFR 75.831(b), during troubleshooting and testing, the de-energized high-voltage cable may be disconnected from the power center only for that period of time necessary to locate the defective condition. Prior to troubleshooting and testing trailing cables, a qualified person must perform the following:

(i) If a trailing cable disconnecting switch is provided:

(a) Open and ground power conductors and lock out and tag the disconnecting switch;

(b) Disconnect the plug from the power receptacle;

(c) Lock out and tag the plug; and

(d) Place a dust cover over the power receptacle.

(ii) If a trailing cable disconnecting switch is not provided and a cable coupler is used as a disconnecting device:

(a) Remove the plug from the power receptacle and connect it to the grounding receptacle to ground the power conductors;

(b) Remove the plug from the grounding receptacle and install a lock and tag on the plug; and

(c) Place a dust cover over the power receptacle.

Under 30 CFR 75.831(d), before any work is performed inside any compartment of the power center, except for troubleshooting and testing energized circuits as specified in 30 CFR 75.831(c) regarding troubleshooting and testing limitations, a qualified person must:

(i) De-energize affected circuits;

(ii) Open the corresponding disconnecting switch, lock it out, and tag it to assure the circuit is isolated;

(iii) Visually verify that the contacts of the disconnecting switch are open and grounded; and

(iv) Discharge all high-voltage capacitors and circuits.

Under 30 CFR 75.831(e)(1), when more than one qualified person is performing electrical work, including troubleshooting and testing, each person must install an individual lock and tag. Each lock and tag must be removed only by the persons who installed them.

Under 30 CFR 75.831(e)(2), if the person who installed the lock and tag is unavailable, the lock and tag may be removed by a person authorized by the operator, provided that:

(i) The authorized person is a qualified person; and

(ii) The mine operator assures that the person who installed the lock and tag is aware that the lock and tag have been removed.

3. Examinations, Corrective Actions, and Recordkeeping of HVCMMs

A. Examinations and Tests

Under 30 CFR 75.832(a), at least once every 7 days, a qualified person must examine each HVCMM to verify that electrical protection, equipment grounding, permissibility, cable insulation, and control devices are properly installed and maintained.

Under 30 CFR 75.832(b), at least once every 7 days, and prior to tramming the HVCMM, a qualified person must activate the ground-fault test circuit to verify that it will cause the corresponding circuit-interrupting device to open.

Under 30 CFR 75.832(c), at least once every 7 days, and prior to tramming the HVCMM, a qualified person must examine and test each HVCMM ground-wire monitor circuit to verify that it will cause the corresponding circuit-interrupting device to open.

Under 30 CFR 75.832(d)(1), once each day during the shift that the HVCMM is first energized, a qualified person must de-energize and inspect the entire length of the high-voltage trailing cable from the power center to the HVCMM. The inspection must include examination of the outer jacket repairs and splices for damage, and assure guarding is provided where required.

Under 30 CFR 75.832(d)(2), at the beginning of each shift that the HVCMM is energized, a person designated by the mine operator must de-energize and visually inspect the high-voltage trailing cable for damage to the outer jacket. This inspection must be conducted from the HVCMM to the following locations:

(i) The last open crosscut;

(ii) Within 150 feet of the working place during retreat or second mining; or

(iii) Up to 150 feet from the HVCMM when the machine is used in outby areas.

Under 30 CFR 75.832(e), when a grounded-phase test circuit is provided on an HVCMM, a person designated by the mine operator must activate the test circuit at the beginning of each production shift to assure that the detection circuit is functioning properly.

B. Corrective Actions

Under 30 CFR 75.832(f), when examinations or tests of equipment reveal a risk of fire, electrical shock, ignition, or operational hazard, the equipment must be immediately removed from service or repaired.

C. Certification and Recordkeeping

Results of examinations, tests, and corrective actions are recorded under 30 CFR 75.832(g).

II. Desired Focus of Comments

MSHA is soliciting comments concerning the proposed information collection titled “High-Voltage Continuous Mining Machine Standards for Underground Coal Mines.” MSHA is particularly interested in comments that:

• Evaluate whether the information collection is necessary for the proper performance of the functions of the Agency, including whether the information has practical utility;

• Evaluate the accuracy of MSHA's estimate of the burden of the information collection, including the validity of the methodology and assumptions used;

• Suggest methods to enhance the quality, utility, and clarity of the information to be collected; and

• Minimize the burden of the information collection on those who are to respond, including through the use of appropriate automated, electronic, mechanical, or other technological collection techniques or other forms of information technology, e.g., permitting electronic submission of responses.

The information collection request will be available on https://www.regulations.gov. MSHA cautions the commenter against providing any information in the submission that should not be publicly disclosed. Full comments, including personal information provided, will be made available on https://www.regulations.gov and https://www.reginfo.gov.

The public may also examine publicly available documents at DOL-MSHA, Office of Standards, Regulations and Variances, 200 Constitution Avenue NW, Room C3522, Washington, DC 20210. Before visiting MSHA in person, call 202-693-9455 to make an appointment.

Questions about the information collection requirements may be directed to the person listed in the FOR FURTHER INFORMATION section of this notice.

III. Current Actions

This information collection request concerns provisions for High-Voltage Continuous Mining Machine Standards for Underground Coal Mines. MSHA has updated the data with respect to the number of respondents, responses, time burden, and burden costs supporting this information collection request from the previous information collection request.

Type of Review: Extension, without change, of a currently approved collection.

Agency: Mine Safety and Health Administration.

OMB Number: 1219-0140.

Affected Public: Business or other for-profit entity.

Number of Annual Respondents: 3.

Frequency: On occasion.

Number of Annual Responses: 4,070.

Annual Time Burden: 124 hours.

Annual Other Burden Costs: $0.

Comments submitted in response to this notice will be summarized and included in the request for Office of Management and Budget approval of the proposed information collection request; they will become a matter of public record and be available at https://www.reginfo.gov.

Jessica Senk,
Certifying Officer, Mine Safety and Health Administration.

[FR Doc. 2025-12437 Filed 7-2-25; 8:45 am]

BILLING CODE 4510-43-P